DEPARTMENT OF DEFENSE

Department of the Army, Corps of Engineers

Intent To Prepare a Draft Environmental Impact Statement/Report for the San Francisco Central Bay Rock Removal Study, City and County of San Francisco, California

AGENCY: Army Corps of Engineers, DoD.

ACTION: Notice of intent.

SUMMARY: The Corps of Engineers (Corps) and the California State Lands Commission (Commission) will conduct a feasibility study to investigate the navigation hazard of submerged rock outcroppings in the San Francisco Bay. Pursuant to the requirements of section 102(2)(c) of the National Environmental Policy Act (NEPA) of 1969, Environmental Quality regulations (40 CFR parts 1500-1508), and the California Environmental Quality Act (CEQA), the Corps and the Commission will prepare a joint Environmental Impact Statement/Environmental Impact Report (EIS/R) as a part study effort.

FOR FURTHER INFORMATION CONTACT: For further information about the project and the alternatives, contact Mr. Gary Flickinger of the Plan Formulation Section, U.S. Army Corps of Engineers San Francisco District, 333 Market Street, 7th floor, CESPN-ET-PF, San Francisco, CA 94105-2197. Phone number 415-977-8548, Fax: 415-977-8695, Email: gflickinger@spd.usace.army.mil. Written comments and questions regarding the scoping process or preparation of the EIS/EIR may be directed to Roger Fernwood, U.S. Army Corps of Engineers, San Francisco District, 333 Market Street, 7th floor, CESPN-ET-PP, San Francisco, CA 94105-2197, phone number: 415-977-8544, Fax: 415-977-8695, Email: rfernwood@spd.usace.army.mil. Mr. David Patterson is the Project Manager, and can be contacted at U.S. Army Corps of Engineers, San Francisco District, 333 Market Street, 8th floor, CESPN-PM, San Francisco, CA 94105-2197, phone number 415-977-8229, Fax: 415-977-8431, Email: dpatterson@spd.usace.army.mil.

SUPPLEMENTARY INFORMATION: 1. Authority. Pursuant to Section 102(2)(c) of the National Environmental Policy Act (NEPA) of 1969, as implemented by the Council on Environmental Quality regulations 40 CFR 1500-1508, Section 905(b) of the Water Resources Development Act (WRDA) of 1986, and the California Environmental Quality Act (CEQA) the Corps and the Commission hereby provide notice of intent to prepare a joint EIS/R for the San Francisco Bay Rock Removal, San Francisco, California.

2. Comments/Scoping Meetings. An initial scoping meeting will be held in the conference room at the San Francisco Bar Pilots Association, Pier 9 West End, San Francisco, California 94126 at 2:00 pm and 7:00 pm on October 24, 2000. The public is invited to these meetings.

3. Availability of EIS/R. The Draft EIS/R should be available for public review in the winter of 2002. A final EIS/R should be available for public review in summer of 2002.

4. Agencies Supporting Project. Corps and the Commission will be the lead agencies in preparing the combined EIS/R. Cooperating agencies include the National Marine Fisheries Service, U.S. Fish and Wildlife Service, U.S. Environmental Protection Agency, U.S. Coast Guard, U.S. Geological Survey, California Department of Fish & Game, San Francisco Bay Conservation and Development Commission, and San Francisco Regional Water Quality Control Board.

5. Purpose and Need for Action. The Harbor Safety Committee (HSC) of the San Francisco Bay Region has deemed these rock outcroppings to be a hazard to deep draft vessels, especially tanker ships. The HSC is comprised of representatives from government, industry, navigation, recreation, economic, and environmental groups/agencies, as mandated by the State of California Oil Spill Prevention and Response Act. The HSC requested a Federal study of the navigation hazard.

6. Study Area Description. The study area is located in Central San Francisco Bay, California and comprises natural topographical formations known as Harding, Shag, Arch, Blossom, and (Unnamed) Rocks. These five underwater topographic features in the Central San Francisco Bay are composed of hard materials at depths ranging from −33 to −48 feet Mean Lower Low Water (MLLW) that are adjacent to, or close by, the present designated navigation lanes. The study area is located within U.S. Congressional Districts 6, 7, 8, and 9.

Harding Rock is located approximately 6,500 feet north-northwest of Alcatraz island and rises to an elevation of −36.4 feet MLLW. Shag Rock is approximately 1,000 feet southwest of Harding Rock and rises to an elevation of −36.9 feet MLLW. Arch Rock, the largest of the rocks, is approximately 1,600 feet south of Shag Rock and rises to an elevation of −35.2 feet MLLW. Unnamed Rock is approximately 3,000 feet west of Shag Rock and rises to an elevation of −49 feet MLLW. Blossom Rock is located approximately 5,500 feet southeast of Alcatraz Island and 8,000 feet west of Treasure Island and rises to an elevation of −40.4 feet MLLW.

7. Project Alternatives. Alternatives associated with the San Francisco Central Bay Rock Removal Project are the No Action Alternative and several action alternatives. The selected alternative will be implemented.

8. Other Environmental Review and Consultation Requirements. The focus of the DEIS/R will be on determining environmental impacts of available alternatives to reduce the navigation hazard. The non-federal sponsor will use the EIS/R to meet their responsibilities under the CEQA. Other reviews in the EIS/R will be used for an information source, including coordination under the Fish and Wildlife Coordination Act, Endangered Species Act, and all other applicable laws and regulations.

Gregory D. Showalter,
Army Federal Register, Liaison Officer.

[FR Doc. 00-24296 Filed 9-20-00; 8:45 am]

BILLING CODE 3710-19-U